DEPARTMENT OF THE INTERIOR

National Park Service

National Register of Historic Places; Notification of Pending Nominations and Related Actions

Nominations for the following properties being considered for listing or related actions in the National Register were received by the National Park Service before August 25, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by September 25, 2007.

J. Paul Loether,
Chief, National Register of Historic Places/National Historic Landmarks Program.

Alabama

Jefferson County

Center Street Historic District, (Civil Rights Movement in Birmingham, Alabama 1933-1979 MPS) 940-1145 Center St.; 2-9th Ct. W.; 4-10th Ave. N.; 2-4 10th Ct. N.; 16-24 11th Ave. N.; 1-2 11th Ct. N., Birmingham, 07001027

Arkansas

Washington County

West Dickdon Street Commercial Historic District, Dickson St. between Arkansas Ave. & St. Charles Ave. & West Ave. between Dickson St. & Lafayette St., Fayetteville, 07001028

Florida

Duval County

Hutchinson—Suddath Building, (Downtown Jacksonville MPS) 315-319 E. Bay St., Jacksonville, 07001029

Indiana

Posey County

Harmony Way Bridge, IN 66/IL 14, New Harmony, 07001030

Iowa

Clinton County

City Hotel, 214 S. Main St., Wheatland, 07001031

Maryland

Baltimore Independent City

Hendler Creamery, 1100 E. Baltimore St. & 1107 E. Fayette St., Baltimore, 07001032

Ruscombe, 4901 Springarden Dr., Baltimore, 07001033

Upper Fells Point Historic District, Roughly bounded by E. Baltimore St.; S. Chapel St.; E. Pratt St.; S. Patterson Park Ave.; S. Chester, Gough & S. Bethel Sts., Baltimore, 07001034

New York

Dutchess County

Parker Training Academy Dutch Barn, 527 Turkey Hill Rd., Red Hook, 07001035

Rensselaer County

Irwin, W.P., Bank Building, 156 Broadway, Rensselaer, 07001036

St. Lawrence County

Crossover Island Light Station, (U.S. Coast Guard Lighthouses and Light Stations on the Great Lakes TR) Crossover Island, St. Lawrence, 07001037

Suffolk County

Crest, The, 563 Asharoken Ave., Asharoken, 07001040

Sullivan County

Beaverkill Covered Bridge, CR 30 over Beaverkill Cr., Beaverkill, 07001038

Ulster County

Cordts Mansion, 82-152 Lindsley Ave., Kingston, 07001039

Westchester County

Bronxville Womens' Club, 135 Midland Ave., Bronxville, 07001041

Wyoming County

Brick Presbyterian Church, 6 Church St., Perry, 07001042

South Carolina

Charleston County

Seashore Farmers' Lodge No. 767, NE. corner Jct. of Sol Legare & Old Sol Legare Rds., James Island, 07001043

Marlboro County

Appin (Boundary Increase), US 15/401 W, approx. 1 mi. SW. of Bennettsville, Bennettsville, 07001044

Newberry County

Hope Rosenwald School, 1971 Hope Station Rd., Pomaria, 07001045

Tennessee

Meigs County

Blythe Ferry (Boundary Increase), (Meigs County, Tennessee MRA) TN 60 at Tennessee R., Birchwood, 07001046

Wisconsin

Eau Claire County

Confluence Commercial Historic District, 2-28 S. Barstow; 206-316 Eau Claire & 8 S. Farwell Sts., Eau Claire, 07001047

Kewaunee County

Daniel Lyons (Shipwreck), (Great Lakes Shipwreck Sites of Wisconsin MPS) E. of Stoney Cr. outlet, 4 mi. offshore, Lake Michigan, 07001048

[FR Doc. E7-17723 Filed 9-7-07; 8:45 am]

BILLING CODE 4312-51-P